DEPARTMENT OF EDUCATION

OMB Approval Notice

ACTION: Notice of OMB Approval.

In accordance with the Paperwork Reduction Act of 1995 (44 U.S.C. chapter 35), the Department of Education would like to provide a notice of OMB approval for the Federal Educational Rights and Privacy Act (FERPA) information collection OMB #1875-0246 and FERPA Final regulation 34 CFR part 99 published in the Federal Register, Vol. 76, page 75639, on December 2, 2011. Because the FERPA program has been transferred from the Office of Planning, Evaluation and Policy Development (OPEPD) to the Office of Management (OM), OMB has assigned a new OMB control number #1880-0543 to this collection. This action has no impact on the FERPA information collection requirements or the FERPA regulations at 34 CFR part 99. The Department of Education would like to make note of this change in OMB control number.

Dated: January 6, 2012.
Darrin A. King,
Director, Information Collection Clearance Division, Privacy, Information and Records Management Services, Office of Management.

[FR Doc. 2012-330 Filed 1-10-12; 8:45 am]

BILLING CODE P